DEPARTMENT OF LABOR

Office of Federal Contract Compliance Programs

41 CFR Part 60-300

RIN 1215-AB46

Affirmative Action and Nondiscrimination Obligations of Contractors and Subcontractors Regarding Disabled Veterans, Recently Separated Veterans, Other Protected Veterans, and Armed Forces Service Medal Veterans; Correction

AGENCY: Office of Federal Contract Compliance Programs, Labor.

ACTION: Final rule; correction.

SUMMARY: The Office of Federal Contract Compliance Programs (OFCCP) is correcting a final rule that appeared in the Federal Register of August 8, 2007, (72 FR 44393). That document set forth the final regulations implementing the amendments to the affirmative action provisions of the Vietnam Era Veterans' Readjustment Assistance Act of 1974 (“VEVRAA”) that were made by the Jobs for Veterans Act (“JVA”) enacted in 2002.

DATES: Effective Date: These final regulations are effective September 7, 2007.

FOR FURTHER INFORMATION CONTACT: Lynn A. Clements, Acting Director, Division of Policy, Planning, and Program Development, Office of Federal Contract Compliance Programs, 200 Constitution Avenue, NW., Room N3422, Washington, DC 20210. Telephone: (202) 693-0102 (voice) or (202) 693-1337 (TTY).

SUPPLEMENTARY INFORMATION: In FR Doc. E7-15385, beginning on page 44393 in the issue of Wednesday, August 8, 2007, make the following correction. On page 44401, in the first column, correct the words of issuance to read:

“Accordingly, for the reasons set forth in the preamble, Chapter 60 of Title 41 of the Code of Federal Regulations is amended by adding Part 60-300 to read as follows:”

Dated: August 15, 2007.
Charles E. James, Sr.,
Deputy Assistant Secretary for Federal Contract Compliance.

[FR Doc. E7-16361 Filed 8-20-07; 8:45 am]

BILLING CODE 4510-CM-P